ENVIRONMENTAL PROTECTION AGENCY

[FRL-9320-3, EPA-HQ-OW-2010-0782]

Draft National Pollutant Discharge Elimination System (NPDES) General Permit for Stormwater Discharges From Construction Activities

AGENCY: Environmental Protection Agency (EPA).

ACTION: Extension of Comment Period.

SUMMARY: On April 25, 2011, EPA published a draft NPDES general permit entitled “Draft National Pollutant Discharge Elimination System (NPDES) General Permit for Stormwater Discharges from Construction Activities.” As initially published in the Federal Register, written comments on the draft general permit were to be submitted to EPA on or before June 24, 2011 (a 60-day public comment period). Since publication, EPA has received several requests for additional time to submit comments. Therefore, the public comment period is being extended for 17 days and will now end on July 11, 2011.

DATES: Comments on the draft general permit must be received on or before July 11, 2011.

ADDRESSES: Submit your comments, identified by Docket ID No. EPA-HQ-OW-2010-0782, by one of the following methods:

1. http://www.regulations.gov: Follow the online instructions for submitting comments.

2. E-mail: ow-docket@epa.gov.

3. Mail to: Water Docket, U.S. Environmental Protection Agency, Mail Code: 2822T, 1200 Pennsylvania Avenue, NW., Washington, DC 20460, Attention: Docket ID No. EPA-HQ-OW-2010-0782. Such deliveries are only accepted during the Docket's normal hours of operation, and special arrangements should be made for deliveries of boxed information.

Instructions: Direct your comments to Docket ID No. EPA-HQ-OW-2010-0782. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at a docket facility. The Office of Water (OW) Docket Center is open from 8:30 until 4:30 p.m., Monday through Friday, excluding legal holidays. The OW Docket Center telephone number is (202) 566-2426, and the Docket address is OW Docket, EPA West, Room 3334, 1301 Constitution Avenue, NW., Washington, DC 20004. The Public Reading Room is open from 8:30 a.m. to 4:30 p.m., Monday through Friday, excluding legal holidays. The telephone number for the Public Reading Room is (202) 566-1744.

FOR FURTHER INFORMATION CONTACT: For further information on the draft NPDES general permit, contact the appropriate EPA Regional office listed in Section I.D, or Greg Schaner, EPA Headquarters, Office of Water, Office of Wastewater Management at tel.: 202-564-0721 or e-mail: schaner.greg@epa.gov, or Erika Farris, EPA Headquarters, Office of Water, Office of Wastewater Management at tel.: 202-564-7548, or e-mail farris.erika@epa.gov.

SUPPLEMENTARY INFORMATION: This supplementary information is organized as follows:

I. General Information

A. Does this action apply to me?

The draft construction general permit (“draft CGP”) applies to the following construction activities:

Table 1—Entities Potentially Regulated by This Permit
Category | Examples of affected entities | North American Industry Classification System (NAICS) code
Industry | Construction site operators disturbing 1 or more acres of land, or less than 1 acre but part of a larger common plan of development or sale if the larger common plan will ultimately disturb 1 acre or more, and performing the following activities:
| Building, Developing and General Contracting | 233
| Heavy Construction | 234

EPA does not intend the preceding table to be exhaustive, but provides it as a guide for readers regarding entities likely to be regulated by this action. This table lists the types of activities that EPA is now aware of that could potentially be affected by this action. Other types of entities not listed in the table could also be affected. To determine whether your facility is regulated by this action, you should carefully examine the definition of “construction activity” and “small construction activity” in existing EPA regulations at 40 CFR 122.26(b)(14)(x) and 122.26(b)(15), respectively. If you have questions regarding the applicability of this action to a particular entity, consult one of the persons listed for technical information in the preceding FOR FURTHER INFORMATION CONTACT section.

B. How can I get copies of these documents and other related information?

1. Docket. EPA has established an official public docket for this action under Docket ID No. EPA-HQ-OW-2010-0782. The official public docket is the collection of materials that is available for public viewing at the Water Docket in the EPA Docket Center, (EPA/DC) EPA West, Room 3334, 1301 Constitution Ave., NW., Washington, DC 20460. Although all documents in the docket are listed in an index, some information is not publicly available, i.e., Confidential Business Information (CBI) or other information whose disclosure is restricted by statute. Publicly available docket materials are available in hard copy at the EPA Docket Center Public Reading Room, open from 8:30 a.m. to 4:30 p.m., Monday through Friday, excluding legal holidays. The telephone number for the Public Reading Room is (202) 566-1744 and the telephone number for the Water Docket is (202) 566-2426.

2. Electronic Access. You may access this Federal Register document electronically through the United States government online source for Federal regulations at http://www.regulations.gov.

Electronic versions of this draft permit and fact sheet are available on EPA's NPDES Web site at http://www.epa.gov/npdes/stormwater/cgp.

An electronic version of the public docket is available through the EPA's electronic public docket and comment system, EPA Dockets. You may use EPA Dockets at http://www.regulations.gov to submit or view public comments, access the index listing of the contents of the official public docket, and to access those documents in the public docket that are available electronically. For additional information about EPA's public docket, visit the EPA Docket Center homepage at http://www.epa.gov/dockets. Although not all docket materials may be available electronically, you may still access any of the publicly available docket materials through the Docket Facility identified in Section I.B.1.

C. What should I consider as I prepare my comments for EPA?

1. Submitting CBI. Do not submit this information to EPA through http://www.regulations.gov or e-mail. Clearly mark all of the information that you claim to be CBI. For CBI information on computer disks mailed to EPA, mark the surface of the disk as CBI. Also identify electronically the specific information contained in the disk or that you claim is CBI. In addition to one complete version of the specific information claimed as CBI, you must submit a copy that does not contain the information claimed as CBI for inclusion in the public document. Information marked as CBI will not be disclosed except in accordance with procedures set forth in 40 CFR part 2.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

2. Tips for Preparing Your Comments. When submitting comments, remember to:

• Identify this permit by docket number and other identifying information (subject heading, Federal Register date, and page number).

• Where possible, respond to specific questions or organize comments by referencing a section or part of this permit.

• Explain why you agree or disagree, suggest alternatives, and suggest substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• To ensure that EPA can read, understand, and therefore properly respond to comments, the Agency would prefer that commenters cite, where possible, the paragraph(s) or section in the fact sheet or permit to which each comment refers.

• Make sure to submit your comments by the comment period deadline identified.

D. Who are the EPA regional contacts for this draft permit?

For EPA Region 1, contact Jessica Hing at tel.: (617) 918-1560 or e-mail at hing.jessica@epa.gov.

For EPA Region 2, contact Stephen Venezia at tel.: (212) 637-3856 or e-mail at venezia.stephen@epa.gov, or for Puerto Rico, contact Sergio Bosques at tel.: (787) 977-5838 or e-mail at bosques.sergio@epa.gov.

For EPA Region 3, contact Chuck Schadel at tel.: (215) 814-5761 or e-mail at schadel.chuck@epa.gov.

For EPA Region 4, contact Michael Mitchell at tel.: (404) 562-9303 or e-mail at mitchell.michael@epa.gov.

For EPA Region 5, contact Brian Bell at tel.: (312) 886-0981 or e-mail at bell.brianc@epa.gov.

For EPA Region 6, contact Suzanna Perea at tel.: (214) 665-7217 or e-mail at: perea.suzanna@epa.gov.

For EPA Region 7, contact Mark Matthews at tel.: (913) 551-7635 or e-mail at: matthews.mark@epa.gov.

For EPA Region 8, contact Amy Clark at tel.: (303) 312-7014 or e-mail at: clark.amy@epa.gov.

For EPA Region 9, contact Eugene Bromley at tel.: (415) 972-3510 or e-mail at bromley.eugene@epa.gov.

For EPA Region 10, contact Misha Vakoc at tel.: (206) 553-6650 or e-mail at vakoc.misha@epa.gov.

II. Extension of Comment Period for Draft CGP

A. Draft CGP

On April 25, 2011, EPA announced in the Federal Register the publication of proposed modifications to the next iteration of its CGP. See 79 FR 22882. The Federal Register notice provided summary details of the changes in the proposed permit, as compared to the existing CGP, and the supporting legislative and regulatory background behind these modifications. A key difference between the draft CGP and past versions of the permit is the fact that for the first time EPA's permit is required to include new requirements promulgated by the Agency in its Construction and Development Effluent Limitations Guidelines and New Source Performance Standards, also referred to as the “C&D rule”. Copies of the draft permit are available on EPA's Web site at http://cfpub.epa.gov/npdes/stormwater/cgp.cfm. More information regarding EPA's C&D rule can be found at http://water.epa.gov/scitech/wastetech/guide/construction/index.cfm.

B. Extension of Comment Period

EPA is extending the deadline for submitting comments on the draft CGP to July 11, 2011. The original deadline for comments, based on a 60-day comment period, was June 24, 2011. EPA's decision responds to a request from several organizations to extend the comment deadline in order to provide a longer period of time in which to provide comments. EPA is hopeful that this 17-day extension, although not as long as the 60-day extension that at least one organization requested, will assist in providing an adequate amount of additional time for these organizations as well as other members of the public to review the draft permit and to provide written comments.

Authority: Clean Water Act, 33 U.S.C. 1251 et seq.

Dated: June 7, 2011.
H. Curtis Spalding,
Regional Administrator, EPA Region 1.
Dated: June 6, 2011.
Kevin Bricke,
Acting Division Director, Division of Environmental Planning & Protection, EPA Region 2.
Dated: June 8, 2011.
José C. Font,
Acting Division Director, Caribbean Environmental Protection Division, EPA Region 2.
Dated: June 7, 2011.
Jon M. Capacasa,
Director, Water Protection Division, EPA Region 3.
Dated: June 7, 2011.
Douglas Mundrick,
Acting Director, Water Protection Division, EPA Region 4.
Dated: June 7, 2011.
Tinka G. Hyde,
Director, Water Division, EPA Region 5.
Dated: June 7, 2011.
Jane B. Watson,
Acting Director, Water Quality Protection Division, EPA Region 6.
Dated: June 7, 2011.
Karen Flournoy,
Acting Director, Water, Wetlands and Pesticides Division, EPA Region 7.
Dated: June 6, 2011.
Stephen S. Tuber,
Assistant Regional Administrator, Offices of Partnerships and Regulatory Assistance, EPA Region 8.
Dated: June 6, 2011.
Alexis Strauss,
Director, Water Division, EPA Region 9.
Dated: June 6, 2011.
Michael A. Bussell,
Director, Office of Water and Watersheds, EPA Region 10.

[FR Doc. 2011-15101 Filed 6-16-11; 8:45 am]

BILLING CODE 6560-50-P